SMALL BUSINESS ADMINISTRATION

[License No. 02/02-0650]

Surrender of License of Small Business Investment Company; High Peaks Seed Ventures, L.P.

Pursuant to the authority granted to the United States Small Business Administration under Section 309 of the Small Business Investment Act of 1958, as amended, and 13 CFR 107.1900 of the Code of Federal Regulations to function as a small business investment company under the Small Business Investment Company license number 02/02-0650 issued to High Peaks Seed Ventures, L.P. said license is hereby declared null and void.

Paul Salgado,
Director, Investment Portfolio Management, United States Small Business Administration.

[FR Doc. 2025-07529 Filed 4-30-25; 8:45 am]

BILLING CODE P